DEPARTMENT OF JUSTICE

Antitrust Division

Notice Pursuant to The National Cooperative Research and Production Act of 1993—Wireless Application Protocol Forum, Ltd.

Notice is hereby given that, on April 3, 2001, pursuant to Section 6(a) of the National Cooperative Research and Production Act of 1993, 15 U.S.C. § 4301 et seq. (“the Act”), Wireless Application Protocol Forum, Ltd. (“WAP”) has filed written notifications simultaneously with the Attorney General and the Federal Trade Commission disclosing changes in its membership status. The notifications were filed for the purpose of extending the Act's provisions limiting the recovery of antitrust plaintiffs to actual damages under specified circumstances. Specifically, CacheFlow Inc., Tokyo, JAPAN; CASIO SOFT CO., LTD., Tokyo, JAPAN; Cellnext Solutions Limited, New Delhi, INDIA; Cisco Systems, Inc., Research Triangle Park, NC; Finetix Limited, London, England, UNITED KINGDOM; GEO Interactive Media Group Ltd., Givataim, ISRAEL; iConverse, Waltham, MA; Interactive Trust Network, Inc., Atlanta, GA; Jataayu Software Ltd., Bangalore, INDIA; MobiApps, Inc., McLean, VA; Niragongo Inc., Herzliya, ISRAEL; Sila Communications Ltd., London, England, UNTIED KINGDOM; SingleSignOn.Net Inc., Reston, VA; and ValiCert, Inc., Mountain View, CA have been added as parties to this venture.

No other changes have been made in either the membership or planned activity of the group research project. Membership in this group research project remains open, and WAP intends to file additional written notifications disclosing all changes in membership.

On March 18, 1998, WAP filed its original notification pursuant to Section 6(a) of the Act. The Department of Justice published a notice in the Federal Register pursuant to Section 6(b) of the Act on December 31, 1998 (63 FR 72333).

The last notification was filed with the Department on January 8, 2001. A notice for this filing has not yet been published in the Federal Register.

Constance K. Robinson,
Director of Operations, Antitrust Division.

[FR Doc. 01-13031 Filed 5-22-01; 8:45 am]

BILLING CODE 4410-11-M